DEPARTMENT OF TRANSPORTATION

Federal Aviation Administration

14 CFR Part 71

[Docket No. FAA-2024-0485; Airspace Docket No. 23-ASW-16]

RIN 2120-AA66

Amendment of Jet Route J-183, United States Area Navigation (RNAV) Routes Q-4 and T-254, and Very High Frequency Omnidirectional Range (VOR) Federal Airways V-76, V-161, V-565, and V-568; Establishment of RNAV Route T-499; and Revocation of VOR Federal Airway V-558 in the Vicinity of Llano, TX

AGENCY: Federal Aviation Administration (FAA), DOT.

ACTION: Final rule.

SUMMARY: This action amends Jet Route J-183, United States Area Navigation (RNAV) Routes Q-4 and T-254, and Very High Frequency Omnidirectional Range (VOR) Federal Airways V-76, V-161, V-558, V-565, and V-568; and establishes RNAV Route T-499. The FAA is taking this action due to the planned decommissioning of the VOR portion of the Llano, TX (LLO), VOR/Tactical Air Navigation (VORTAC) navigational aid (NAVAID). The Llano VOR is being decommissioned in support of the FAA's VOR Minimum Operational Network (MON) program.

DATES: Effective date 0901 UTC, October 31, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Colby Abbott, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2024-0485 in the Federal Register (89 FR 17763; March 12, 2024), to amend Jet Route J-183, RNAV Routes Q-4 and T-254, and VOR Federal Airways V-76, V-161, V-565, and V-568; establish RNAV Route T-499; and revoke VOR Federal Airway V-558 due to the planned decommissioning of the VOR portion of the Llano, TX, VORTAC NAVAID. Interested parties were invited to participate in this rulemaking effort by submitting written comments on the proposal. No comments were received.

Differences From the NPRM

After publishing the NPRM in the Federal Register, the FAA realized the proposed amendments to V-76 and V-558 would inadvertently remove the air traffic service provided by the conventional airways between the Centex, TX, VORTAC and the Industry, TX, VORTAC while the NAVAIDs remain operational. Since V-76 and V-558 overlap between the Centex and Industry VORTACs, the FAA decided to continue with the intended removal of the V-76 airway segment and to retain the V-558 airway segment. As such, instead of removing V-558 in its entirety as proposed in the NPRM, the FAA is removing only the portion of the airway between the Llano, TX, VORTAC and the Centex, TX, VORTAC. As amended, V-558 will continue to provide VOR Federal airway service between the Centex VORTAC and the Industry VORTAC.

Subsequent the NPRM, the FAA published a rule for Docket No. FAA-2023-2493 in the Federal Register (89 FR 51403; June 18, 2024), amending V-161 by removing the airway segment between the International Falls VOR/Distance Measuring Equipment (DME) and the Winnipeg, Manitoba (MB), Canada, VORTAC. As amended, the airway was changed to extend between the Three Rivers, TX, VORTAC and the Tulsa, OK, VORTAC, and between the Butler, MO, VORTAC and the Gopher, MN, VORTAC. That airway amendment becomes effective September 5, 2024, and is included in this rule.

Incorporation by Reference

Jet Routes are published in paragraph 2004, United States RNAV Routes (Q-routes) are published in paragraph 2006, VOR Federal airways are published in paragraph 6010(a), and United States RNAV Routes (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending Jet Route J-183, RNAV Routes Q-4 and T-254, and VOR Federal Airways V-76, V-161, V-558, V-565, and V-568; and establishing RNAV Route T-499. The FAA is taking this action due to the planned decommissioning of the VOR portion of the Llano, TX, VORTAC. The ATS route actions are described below.

J-183: J-183 extends between the El Paso, TX, VORTAC and the College Station, TX, VORTAC. The route segment between the Pecos, TX, VOR/DME and the College Station VORTAC is removed. As amended, the route is changed to now extend between the El Paso VORTAC and the Pecos VOR/DME.

Q-4: Q-4 extends between the BOILE, CA, Fix and the El Paso, TX, VORTAC. The route is extended eastward from the El Paso VORTAC to the College Station, TX, VORTAC to mitigate the removal of the J-183 route segment addressed above. In addition, the ZEBOL, AZ, Waypoint (WP) is removed from the route description because it does not denote a turn point of one degree or more and there is no published holding at the WP. Lastly, minor editorial corrections are made to the route description to list the state in which each route point is located, spell out the names of the navigational aids, and update the geographic coordinates of each route point to be expressed in degrees, minutes, seconds, and hundredths of a second. As amended, the route is changed to now extend between the BOILE Fix and the College Station VORTAC.

V-76: V-76 extends between the Lubbock, TX, VORTAC and the Industry, TX, VORTAC. The airway segment between the San Angelo, TX, VORTAC and the Industry VORTAC is removed. As amended, the airway is changed to now extend between the Lubbock VORTAC and the San Angelo VORTAC.

V-161: V-161 extends between the Three Rivers, TX, VORTAC and the Tulsa, OK, VORTAC; and between the Butler, MO, VORTAC and the Gopher, MN, VORTAC. The airway segment between the Center Point, TX, VORTAC and the Millsap, TX, VORTAC is removed. As amended, the airway is changed to now extend between the Three Rivers VORTAC and the Center Point VORTAC, between the Millsap VORTAC and the Tulsa VORTAC, and between the Butler VORTAC and the Gopher VORTAC.

V-558: V-558 extends between the Llano, TX, VORTAC and the Industry, TX, VORTAC. The airway segment between the Llano VORTAC and the Centex, TX, VORTAC is removed. As amended, the airway is changed to now extend between the Centex VORTAC and the Industry VORTAC.

V-565: V-565 extends between the Llano, TX, VORTAC and the Lufkin, TX, VORTAC. The airway segment between the Llano VORTAC and the Centex, TX, VORTAC is removed. As amended, the airway is changed to now extend between the Centex VORTAC and the Lufkin VORTAC.

V-568: V-568 extends between the Corpus Christi, TX, VORTAC and the Llano, TX, VORTAC; and between the Millsap, TX, VORTAC and the Wichita Falls, TX, VORTAC. The airway segment between the Stonewall, TX, VORTAC and the Llano VORTAC is removed. As amended, the airway is changed to now extend between the Corpus Christi VORTAC and the Stonewall VORTAC, and between the Millsap VORTAC and the Wichita Falls VORTAC.

T-254: T-254 extends between the College Station, TX, VORTAC and the Lake Charles, LA, VORTAC. The route is extended westward from the College Station VORTAC to the San Angelo, TX, VORTAC to mitigate a portion of the V-76 airway segment removed between the San Angelo VORTAC and the Llano, TX, VORTAC. The route extension includes the DILLO, TX, WP; the KALLA, TX, Fix; and the DOWWD, TX, WP. Additionally, the Lake Charles VORTAC route point is replaced with the KNZLY, LA, WP in the immediate vicinity of the Lake Charles VORTAC. Lastly, minor editorial corrections are made to the route description to update the geographic coordinates of each route point to be expressed in degrees, minutes, seconds, and hundredths of a second. As amended, T-254 now extends between the San Angelo VORTAC and the KNZLY WP.

T-499: T-499 is a new RNAV route established between the Corpus Christi, TX, VORTAC and the DILLO, TX, WP. This new T-route provides RNAV routing between the Corpus Christi, TX, area and the Llano, TX, area to mitigate the removal of the V-568 airway segment addressed above. The full T-499 route description is listed in the regulatory text of this rule.

All NAVAID radials listed in the VOR Federal airway descriptions in the regulatory text of this rule are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-183 [Amended]

From El Paso, TX; to Pecos, TX.

* * * * *

Paragraph 2006 United States Area Navigation Routes.

* * * * *

Q-4 BOILE, CA to College Station, TX (CLL) [Amended]
BOILE, CA | FIX | (Lat. 34°25′20.78″ N, long. 118°01′33.07″ W)
HEDVI, AZ | WP | (Lat. 33°32′23.00″ N, long. 114°28′14.00″ W)
SCOLE, AZ | FIX | (Lat. 33°27′45.80″ N, long. 114°04′54.40″ W)
SPTFR, AZ | WP | (Lat. 33°23′49.00″ N, long. 113°43′29.00″ W)
SKTTR, AZ | WP | (Lat. 32°17′38.00″ N, long. 109°50′44.00″ W)
El Paso, TX (ELP) | VORTAC | (Lat. 31°48′57.28″ N, long. 106°16′54.78″ W)
Pecos, TX (PEQ) | VOR/DME | (Lat. 31°28′09.53″ N, long. 103°34′29.12″ W)
DILLO, TX | WP | (Lat. 30°47′46.76″ N, long. 098°47′13.91″ W)
College Station, TX (CLL) | VORTAC | (Lat. 30°36′18.01″ N, long. 096°25′14.45″ W)

* * * * *

Paragraph 6010(a) Domestic VOR Federal Airways.

* * * * *

V-76 [Amended]

From Lubbock, TX; INT Lubbock 188° and Big Spring, TX, 286° radials; Big Spring; to San Angelo, TX.

* * * * *

V-161 [Amended]

From Three Rivers, TX; to Center Point, TX. From Millsap, TX; Bowie, TX; Ardmore, OK; Okmulgee, OK; to Tulsa, OK. From Butler, MO; Napoleon, MO; Lamoni, IA; Des Moines, IA; Mason City, IA; Rochester, MN; Farmington, MN; to Gopher, MN.

* * * * *

V-558 [Amended]

From Centex, TX; to Industry, TX.

* * * * *

V-565 [Amended]

From Centex, TX; College Station, TX; to Lufkin, TX.

* * * * *

V-568 [Amended]

From Corpus Christi, TX; INT Corpus Christi 296° and Three Rivers, TX, 165° radials; Three Rivers; INT Three Rivers 327° and San Antonio, TX, 183° radials; San Antonio; to Stonewall, TX. From Millsap, TX; to Wichita Falls, TX.

* * * * *

Paragraph 6011 United States Area Navigation Routes.

* * * * *

T-254 San Angelo, TX (SJT) to KNZLY, LA [Amended]
San Angelo, TX (SJT) | VORTAC | (Lat. 31°22′29.84″ N, long. 100°27′17.53″ W)
DILLO, TX | WP | (Lat. 30°47′46.76″ N, long. 098°47′13.91″ W)
KALLA, TX | FIX | (Lat. 30°43′15.88″ N, long. 098°04′38.46″ W)
DOWWD, TX | WP | (Lat. 30°44′58.33″ N, long. 097°06′12.22″ W)
College Station, TX (CLL) | VORTAC | (Lat. 30°36′18.01″ N, long. 096°25′14.45″ W)
EAKES, TX | WP | (Lat. 30°33′18.00″ N, long. 095°18′29.00″ W)
CREPO, TX | WP | (Lat. 30°16′54.00″ N, long. 094°14′43.00″ W)
KNZLY, LA | WP | (Lat. 30°08′29.48″ N, long. 093°06′19.37″ W)

* * * * *

T-499 Corpus Christi, TX (CRP) to DILLO, TX [New]
Corpus Christi, TX (CRP) | VORTAC | (Lat. 27°54′13.56″ N, long. 097°26′41.57″ W)
CARTI, TX | FIX | (Lat. 28°09′46.08″ N, long. 098°02′51.29″ W)
LEMIG, TX | FIX | (Lat. 28°58′37.91″ N, long. 098°30′03.52″ W)
San Antonio, TX (SAT) | VORTAC | (Lat. 29°38′38.51″ N, long. 098°27′40.74″ W)
Stonewall, TX (STV) | VORTAC | (Lat. 30°12′24.33″ N, long. 098°42′20.72″ W)
DILLO, TX | WP | (Lat. 30°47′46.76″ N, long. 098°47′13.91″ W)

* * * * *

Issued in Washington, DC, on August 16, 2024.
Frank Lias,
Manager, Rules and Regulations Group.

[FR Doc. 2024-18731 Filed 8-21-24; 8:45 am]

BILLING CODE 4910-13-P